DEPARTMENT OF AGRICULTURE

Forest Service

Plan Revision for Lake Tahoe Basin Management Unit, Alpine, El Dorado, and Placer Counties, CA; Douglas and Washoe Counties, and Carson City, NV

AGENCY: Forest Service, USDA.

ACTION: Notice of intent to revise the forest plan.

SUMMARY: As directed by the National Forest Management Act, the USDA Forest Service is preparing the Lake Tahoe Basin Management Unit (referred to as the LTBMU) revised land management plan (forest plan) and will also prepare an environmental impact statement (EIS) for this revised plan. This notice briefly describes the nature of the decision to be made, the need for change, and information concerning public participation. It also provides estimated dates for filing the EIS and the names and addresses of the responsible agency official and the individuals who can provide additional information. Finally, this notice briefly describes the applicable planning rule and how work done on the plan revision under the 2008 planning rule will be used or modified for completing this plan revision.

The revised forest plan will supersede the forest plan previously approved by the Regional Forester on Dec. 2, 1988. The current forest plan has been amended ten times since its approval, including the Sierra Nevada Forest Plan Amendment (January 2004). This amended Plan remains in effect until the revision takes effect.

DATES: Comments concerning the need for change provided in this notice will be most useful in the development of the draft revised forest plan and draft environmental impact statement if received by April 30, 2010. The agency expects to release a draft revised forest plan and draft EIS for formal comment by fall, 2010 and a final revised forest plan and final EIS by summer, 2011. Public meetings to gather additional input on potential alternatives to the proposed action are scheduled for spring, 2010. The dates, times, and locations of these meetings will be sent to members of the plan revision notification list and posted on the LTBMU Web site: http://fs.usda.gov/ltbmu.

ADDRESSES: Send written comments to LTBMU Forest Plan Revision Team, 35 College Drive, South Lake Tahoe, CA 96150. Comments may also be sent via: e-mail, comments-pacificsouthwest-ltbmu@fs.fed.us (subject line: Forest Plan Revision), or facsimile: (530) 543-2693.

FOR FURTHER INFORMATION CONTACT: Robert King, Forest Plan Revision Team Leader, 35 College Drive, South Lake Tahoe, CA 96150. (530) 543-2600. Information regarding this revision is also available at the LTBMU Plan Revision Web page, http://fs.usda.gov/ltbmu; select Land & Resources Management, and then Planning. Individuals who use telecommunication devices for the deaf (TDD) may call the Federal Information Relay Service (FIRS) at 800-877-8339 between 8 a.m. and 8 p.m., Eastern Time Monday through Friday.

SUPPLEMENTARY INFORMATION:

Name and Address of the Responsible Official

Randy Moore, Regional Forester, Pacific Southwest Region, 1323 Club Drive, Vallejo, CA 94592.

Nature of the Decision To Be Made

The Lake Tahoe Basin Management Unit is preparing an EIS to revise the current forest plan. The EIS process is meant to inform the Regional Forester's decision about which alternative best meets the need for quality land management under the sustainable multiple-use management concept as required by the National Forest Management Act and the Multiple Use Sustained Yield Act. This concept seeks to meet the diverse needs of people while protecting the forests' resources.

The revised forest plan will describe the strategic intent of managing the Lake Tahoe Basin Management Unit into the next 10 to 15 years, and will address the need for change described below. The revised forest plan will provide management direction in the form of goals (desired conditions), objectives, suitability determinations, standards, guidelines, and a monitoring plan. It may also make new special area recommendations for wilderness, research natural areas, and other special areas.

As important as the decisions to be made, is the identification of the types of decisions that will not be made within the revised forest plan. The authorization of project-level activities on the unit is not a decision made in the forest plan, but occurs through subsequent project specific decision-making. The designation of routes and trails are not considered during plan revision, but are addressed in separate planning processes on the Lake Tahoe Basin Management Unit. Some issues, although important, are beyond the authority or control of the Lake Tahoe Basin Management Unit or the Forest Service and will not be considered. In addition, some decisions and determinations, such as wild and scenic river suitability determinations, have been accomplished through a separate process.

Need for Change

According to the National Forest Management Act, forest plans are to be revised on a 10 to 15 year cycle. The need to revise the current forest plan are (1) the forest plan is greater than 20 years old, and (2) since the forest plan was approved in 1988, there have been changes in economic, social, and ecological conditions, new policies and priorities, and new information based on monitoring and scientific research. The need for change in the current forest plan has been identified through extensive collaboration with partner land management agencies, the public and intra-agency coordination.

The plan revision need for change is organized into three forest plan revision themes: (1) Restoration of Watersheds and Aquatic Habitats,(2) Management of Hazardous Fuels, Forest Health and Terrestrial Habitat, and (3) Adapting to Changing Recreation Trends. The need for change document, the “CER” (Nov 2006) is available online at: http://fs.usda.gov/ltbmu; select Land & Resources Management, and then Projects. A hard copy may be obtained by contacting the LTBMU Forest Plan Revision Team.

Public Involvement

Extensive public involvement and collaboration has already occurred. The LTBMU began the forest plan revision process in late 2004. Many of these activities were conducted in a collaborative inter-agency process called Pathway 2007 (Pathway), in cooperation with three other key Lake Tahoe Basin agencies: The Tahoe Regional Planning Agency, California's Lahontan Regional Water Quality Control Board and the Nevada Division of Environmental Protection.

Pathway activities included 5 public visioning workshops, a series of phone surveys, 8 focus group meetings, 12 community place-based workshops and more than 40 Pathway Forum stakeholder group meetings.

More recent public involvement focused on a series of five workshops covering further topics of interest specific to forest health, wildlife habitat and fuels reduction; fuels reduction and water quality; and recreation opportunities.

This input, along with science-based evaluations, was used to determine the need for change identified above and will be incorporated into developing the draft plan and draft EIS. Additional meetings, correspondence, news releases, and other tools will be utilized periods to gather feedback from the public, forest employees, tribal governments, federal and state agencies, and local governments.

The LTBMU will continue regular and meaningful consultation and collaboration with tribal nations on a government-to-government basis. The agency will work with tribal governments to address issues concerning Indian tribal self government and sovereignty, natural and cultural resources held in trust, Indian tribal treaty and Executive order rights, and any issues that significantly or uniquely affect their communities.

The LTBMU desires to continue collaborative efforts with members of the public, who are interested in forest management, as well as federal and state agencies, local governments, and private organizations. Public meetings to gather input on potential alternatives to the proposed action are scheduled for spring, 2010. The dates, times, and locations of these meetings will be posted on the forests' Web site: http://fs.usda.gov/ltbmu.

The information gathered at these meetings, as well as other feedback, will be used to inform the draft EIS. At this time, the LTBMU is seeking focused input on the need for change and feedback: Did we miss any substantive issues or concerns? It is important that reviewers provide their comments at such times and in such a way that they are useful to the agency's preparation of the revised forest plan and the EIS. Therefore, comments on the need for change will be most valuable if received by April 30, 2010 and should clearly articulate the reviewer's concerns. The submission of timely and specific comments can affect a reviewer's ability to participate in subsequent administrative or judicial review. At this time, we anticipate using the 2000 planning rule pre-decisional objection process (36 CFR 219.32) for administrative review. Comments received in response to this solicitation, including the names and addresses of those who comment will be part of the public record. Comments submitted anonymously will be accepted and considered.

Applicable Planning Rule

Preparation of the revised forest plan was underway when the 2008 National Forest System land management planning rule (planning rule) was enjoined on June 30, 2009, by the United States District Court for the Northern District of California (Citizens for Better Forestry v. United States Department of Agriculture, No. C 08-1927 CW [N.D. Cal. June 30, 2009]). The Department of Agriculture has determined that the 2000 Planning Rule is once again in effect. The 2000 Planning Rule's transition provisions (36 CFR 219.35) —amended in 2002 and 2003, and clarified by interpretative rules issued in 2001 and 2004— allow use of the provisions of the planning rule in effect prior to the effective date of the 2000 Rule (November 9, 2000), commonly called the 1982 Planning Rule, to amend or revise forest plans. The Lake Tahoe Basin Management Unit has elected to use the provisions of the 1982 Planning Rule, including the requirement to prepare an EIS, to complete its plan revision.

The plan revision effort was formally initiated on Feb. 5, 2007 with the publication of the Notice of Intent (FR Vol. 72, No. 23, p. 5264), and the availability of the “Comprehensive Evaluation Report (CER)” and request for public and partner agency comments specific to the unit's need for change.

Development of the Proposed Plan was halted on March 30, 2007, with the injunction of 2005 Planning Rule. The 2008 Planning Rule (36 CFR Part 219) was implemented on April 21, 2008, allowing the plan revision process to be resumed. The LTBMU formally resumed development of the Proposed Plan with the publication of the Notice of Adjustment on June 2, 2008 (FR Vol. 73, No. 106, p. 31429), and continuation of revised Plan content and public collaboration, prior to the court injunction of the 2008 Planning Rule on June 30, 2009.

Although the 2008 planning rule is no longer in effect, information and data gathered prior to the court's injunction is still useful for completing the Plan revision using the provisions of the 1982 planning rule. As necessary or appropriate, this material will be further adjusted as part of the planning process.

(Authority: 16 U.S.C. 1600-1614; 36 CFR 219.35)

Dated: March 15, 2010.
Eliseo Ilano,
Deputy Forest Supervisor, Lake Tahoe Basin Management Unit.

[FR Doc. 2010-6030 Filed 3-18-10; 8:45 am]

BILLING CODE 3410-11-P